DEPARTMENT OF JUSTICE

[OMB Number 1123-0010]

Agency Information Collection Activities; Proposed eCollection eComments Requested; Extension of a Previously Approved Collection; Request for Registration Under the Gambling Devices Act of 1962

AGENCY: Criminal Division, Department of Justice.

ACTION: 30-Day notice.

SUMMARY: The Criminal Division, Department of Justice (DOJ), will be submitting the following information collection request to the Office of Management and Budget (OMB) for review and approval in accordance with the Paperwork Reduction Act of 1995.

DATES: Comments are encouraged and will be accepted for 30 days until February 12, 2025.

FOR FURTHER INFORMATION CONTACT: If you have comments especially on the estimated public burden or associated response time, suggestions, or need a copy of the proposed information collection instrument with instructions or additional information, please contact: Dawn Cauraugh, Office of Enforcement Operations, 1301 New York Avenue NW, Washington DC 20530, (202) 353-3993, dawn.cauraugh.usdoj.gov.

SUPPLEMENTARY INFORMATION: The proposed information collection was previously published in the Federal Register at 89 FR 89044 on November 12, 2024, allowing a 60-day comment period. Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/ PRAMain. Find this particular information collection by selecting “Currently under 30-day Review—Open for Public Comments” or by using the search function and entering either the title of the information collection or the OMB Control Number OMB 1123-0010. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection:

1. Type of Information Collection: Extension of a previously approved collection.

2. Title of the Form/Collection: Request for Registration Under the Gambling Act of 1962 (15 U.S.C. 1171-1178).

3. Agency form number, if any, and the applicable component of the Department of Justice sponsoring the collection: OMB No. 1123-0010 (7/31/2017); Office of Enforcement Operations.

4. Affected public who will be asked or required to respond, as well as a brief abstract:

[Affected Public: Primary: Business or other for-profit. Other: Not-for-profit institutions, individuals or household, and State, Local, or Tribe Government. The form can be used by any entity required to register under the Gambling Devices Act of 1962 (15 U.S.C. 1171-1178).

[Abstract: Under the Gambling Devices Act of 1962 (15 U.S.C. 1171-1178) mandates that the Department of Justice register all entities that participate in the interstate commerce of gambling devices. Registration involves the collection of certain information from the respondent, as specified in the Act.

5. Obligation to Respond: Gambling Devices Act of 1962, 15 U.S.C. 1171-1178.

6. Total Estimated Number of Respondents: 7,800 of respondents.

7. Estimated Time per Respondent: 5 minutes.

8. Frequency: Annually.

9. Total Estimated Annual Time Burden: 650 hours.

Total Burden Hours
Activity | Number of respondents | Frequency (annually) | Total annual responses | Time per response (min) | Total annual burden (hours)
Form | 7,800 | 1 | 7,800 | 5 | 650
Unduplicated Totals | 7,800 | 1 | 7,800 | 5 | 650

If additional information is required, contact: Darwin Arceo, Department Clearance Officer, Policy and Planning Staff, Justice Management Division, United States Department of Justice, Two Constitution Square, 145 N Street NE, 4W-218 Washington, DC 20530.

Dated: January 7, 2025.
Darwin Arceo,
Department Clearance Officer for PRA, U.S. Department of Justice.

[FR Doc. 2025-00449 Filed 1-10-25; 8:45 am]

BILLING CODE 4410-14-P